OFFICE OF NATIONAL DRUG CONTROL POLICY

New England Governor's Summit to be Held on October 8, 2003 in Boston, MA

AGENCY: Office of National Drug Control Policy.

ACTION: Notice.

SUMMARY: A Summit of New England Governors will be held on Wednesday, October 8, 2003, in Boston, Massachusetts at Historic Faneuil Hall, Merchant's Row, Boston, Massachusetts 02109. The Summit will begin at 9:30 a.m. on Wednesday, October 8, 2003, and will conclude at 1 p.m. The agenda will include three panels hearing testimony addressing three national issues of particular regional importance: (1) Heroin Use in New England; (2) the President's treatment initiative entitled Access to Recovery; and (3) medical marijuana. Members of the public who wish to attend the meeting should telephone ONDCP's New England Governor's Summit RSVP telephone line at (202) 395-6637 to arrange building access.

FOR FURTHER INFORMATION CONTACT: Brian Ferguson at (202) 395-6637.

Dated: September 15, 2003.
Linda V. Priebe,
Assistant General Counsel.

[FR Doc. 03-23838 Filed 9-17-03; 8:45 am]

BILLING CODE 3180-02-P